DEPARTMENT OF HEALTH AND HUMAN SERVICES

Administration for Children and Families

Submission for Public Comment Request

Title: Child Care Development Fund (CCDF)—Reporting Improper Payments—Instructions for States.

OMB No.: 0970-0323.

Description: Section 2 of the Improper Payments Information Act of 2002 (IPIA) provides for estimates and reports of improper payments by Federal agencies. Subpart K of 45 CFR, Part 98 of the Child Care and Development Fund requires States to prepare and submit a report of errors occurring in the administration of CCDF grant funds once every three years.

The Office of Child Care (OCC) is completing the fourth 3-year cycle of case record reviews to meet the requirements for reporting under IPIA. The current data collection forms and instructions expire August 31, 2018. As part of the renewal process, OCC has revised the document with minor changes that do not change the methodology, but which provide respondents with additional guidance, clarification, and support to facilitate the completeness and accuracy of the required data submissions. In addition, questions regarding State processes that previously existed in section III Creating the Sampling Decisions, Assurances, and Fieldwork Preparation Plan on page 5, have been reformatted into a template to facilitate and ease the submission of this information. Two questions added are a description of the process for determining the annual amount of payments and the projected start date for conducting the case record reviews.

OCC is particularly interested in feedback regarding the ease and accuracy with which respondents that pool or combine funds can provide data regarding the pooled funds. Items addressing pooled funds are located primarily in Section VII Completing and Submitting the State Improper Payments Report on pages 43-45 and in the State Improper Payments Report template (Attachment 3) beginning on page 65.

Respondents: State grantees, the District of Columbia, and Puerto Rico.

Annual Burden Estimates
Instrument | Number of respondents | Number of responses per respondent | Average burden hours per response | Total burden hours
Sampling Decisions, Assurances, and Fieldwork Preparation Plan | 17 | 1 | 106 | 1,802
Record Review Worksheet | 17 | 276 | 6.33 | 29,700.36
State Improper Payment Report | 17 | 1 | 639 | 10,863
Corrective Action Plan | 8 | 1 | 156 | 1,248

Estimated Total Annual Burden Hours: 43,613.36.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW, Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2018-04675 Filed 3-7-18; 8:45 am]

BILLING CODE 4184-43-P